DEPARTMENT OF TRANSPORTATION

Federal Aviation Administration

[Docket No. FAA-2022-0201]

Agency Information Collection Activities: Requests for Comments; Clearance of a Renewed Approval of Information Collection: Certification: Pilots and Flight Instructors

AGENCY: Federal Aviation Administration (FAA), DOT.

ACTION: Notice and request for comments.

SUMMARY: In accordance with the Paperwork Reduction Act of 1995, FAA invites public comments about our intention to request Office of Management and Budget (OMB) approval to renew an information collection. The Federal Register Notice with a 60-day comment period soliciting comments on the following collection of information was published on February 15, 2022. FAA regulations prescribe certification standards for pilots, flight instructors, and ground instructors. The information collected is used to determine compliance with applicant eligibility.

DATES: Written comments should be submitted by May 23, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jean Hardy by email at: jean.hardy@faa.gov. Phone: 207-289-7287.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0021.

Title: Certification: Pilots and Flight Instructors.

Form Numbers: 8710-1, 8710-13.

Type of Review: This is a renewal of an existing information collection.

Background: The Federal Register Notice with a 60-day comment period soliciting comments on the following collection of information was published on February 15, 2022 (87 FR 8631). Persons applying for an airman certificate under part 61 are mandated to report information using the Airman certificate and/or Rating Application form and the required records, logbooks and statements to the Federal Aviation Administration (FAA) Flight Standards District Offices or its representatives on occasion. This information is used to determine qualifications of the applicant for issuance of a pilot or instructor certificate, or rating or authorization. The FAA estimates that there are approximately 825,000 active certificated pilot airmen. This includes student, private, commercial, airline transport pilot certificate holders, as well as ground and flight instructors. Approximately 25% of these pilots are providing data on an annual basis. Instructor certificates must be renewed every 24 months to remain effective. If the information collection were not conducted, the FAA would be unable to issue the appropriate certificates and ratings. Persons applying for a remote pilot certificate with a small UAS rating under part 107, are mandated to report information using the FAA Form 8710-13, Remote Pilot Certificate and/or Rating Application. For applicants who do not hold a pilot certificate under part 61, the Remote Pilot Certificate and/or Rating Application is submitted along with a documentation demonstrating that the applicant passed an aeronautical knowledge test. For applicants who hold a pilot certificate under part 61 and meet the flight review requirements of § 61.56, the Remote Pilot Certificate and/or Rating Application is submitted with evidence of completion of the training program is estimated to be approximately 25 percent of the population of active certificated pilots and instructors. Given a population of 825,000, the result is approximately 206,250 respondents providing data on an annual basis. The total number of applicants for a remote pilot certificate with a small UAS rating is estimated to be 39,229 annually.

Respondents: Existing and prospective airmen.

Frequency: On occasion.

Estimated Average Burden per Response: Approximately 15 minutes per response.

Estimated Total Annual Burden: 333,194 hours per year for reporting and recordkeeping.

Issued in Washington, DC, on April 19, 2022.
Dwayne C. Morris,
Project Manager, Flight Standards Service, General Aviation and Commercial Division.

[FR Doc. 2022-08626 Filed 4-21-22; 8:45 am]

BILLING CODE 4910-13-P